DEPARTMENT OF COMMERCE

National Oceanic and Atmospheric Administration

15 CFR Part 950

[Docket No: 090113018-9019-01]

RIN 0648-AX74

Schedule of Fees for Access to NOAA Environmental Data, Information, and Related Products and Services

AGENCY: National Environmental Satellite, Data and Information Service (NESDIS), National Oceanic and Atmospheric Administration (NOAA), Department of Commerce.

ACTION: Final rule.

SUMMARY: In this final rule, NESDIS establishes a new schedule of fees for the sale of its data, information, and related products and services to users. NESDIS is revising the fee schedule to ensure that the fees accurately reflect the costs of providing access to the environmental data, information, and related products and services. NESDIS is authorized under 15 U.S.C. 1534 to assess fees, up to fair market value, for access to environmental data, information, and products derived from, collected, and/or archived by NOAA. Other than depreciation, costs to upgrade computer hardware and software systems will not be included in the fees charged to users.

DATES: Effective Date: May 1, 2009.

FOR FURTHER INFORMATION CONTACT: Linda Neely (301) 713-3305.

SUPPLEMENTARY INFORMATION:

Background

NESDIS operates NOAA's National Data Centers for Climate, Geophysics, Oceans, and Coasts. Through these Data Centers, NESDIS provides and ensures timely access to global environmental data from satellites and other sources, provides information services, and develops science products.

NESDIS maintains some 1,300 data bases containing over 2,400 environmental variables at three National Data Centers and seven World Data Centers. These centers respond to over 2,000,000 requests for these data and products annually from over 70 countries. This collection of environmental data and products is growing exponentially, both in size and sophistication.

Users have the ability to access the data offline, online and through the NESDIS e-Commerce System (NeS) online store. Our ability to provide these data, information, products and services depends on user fees.

New Fee Schedule

The new fee schedule lists both the current fee charged for each item and the new fee to be charged to users that will take effect beginning May 1, 2009. The schedule applies to the listed services provided by NESDIS on or after this date, except for products and services covered by a subscription agreement in effect as of this date that extends beyond this date. In those cases, the increased fees will apply upon renewal of the subscription agreement or at the earliest amendment date provided by the agreement.

NESDIS will continue to review the user fees periodically, and will revise such fees as necessary. Any future changes in the user fees and their effective date will be announced through notice in the Federal Register.

Classification

This rule has been determined to be not significant for purposes of E.O. 12866. The provisions of the Administrative Procedure Act (5 U.S.C. 553) requiring notice of proposed rulemaking and the opportunity for public participation are inapplicable because this rule falls within the proprietary exception of subparagraph (a)(2) of section 553. Further, no other law requires that a notice of proposed rulemaking and an opportunity for public comment be given for this rule. Because a notice of proposed rulemaking and an opportunity for public comment are not required to be given for this rule under 5 U.S.C. 553 or by any other law, the requirements of the Regulatory Flexibility Act (5 U.S.C. 601 et seq.) are not applicable.

List of Subjects in 15 CFR Part 950

Organization and functions (Government agencies).

Charles S. Baker,
Deputy Assistant Administrator for Satellite and Information Services.

For the reasons set forth above, 15 CFR Part 950 is amended as follows:

PART 950—ENVIRONMENTAL DATA AND INFORMATION

1. The authority citation for part 950 continues to read as follows:

Authority: (5 U.S.C. 552, 553). Reorganization Plan No. 4 of 1970.

2. Appendix A to Part 950 is revised to read as follows:

Appendix A to Part 950—Schedule of User Fees for Access to NOAA Environmental Data

Name of product/data/publication/information/service | Current fee | New fee
NOAA National Data Centers Standard User Fees:
Department of Commerce Certification | $91.00 | $85.00
General Certification | 60.00 | 68.00
Paper Copy | 2.00 | 2.00
Online In-Situ Digital Data | 10.00 | 6.00
Data Poster | 18.00 | 18.00
Shipping Service:
For orders totaling less than $50.00 | 5.00 | 3.00
For orders totaling $50.00 or more | 11.00 | 3.00
Rush Order Fee | 60.00 | 60.00
Super Rush Order Fee | 100.00 | 100.00
Foreign Shipping Service:
For orders totaling less than $100.00 | 10.00 | 22.00
For orders totaling $100.00 or more | 20.00 | 22.00
Additional National Climatic Data Center (NCDC) User Fees:
NEXRAD Doppler Radar Color Prints | 19.00 | 18.00
Paper Copy from Electronic Media | 6.00 | 6.00
Offline In-Situ Digital Data | 156.00 | 164.00
Microfilm Copy (roll to paper) per frame from existing film | 13.00 | 13.00
Satellite Image Product | 80.00 | 82.00
Offline Satellite Digital Data (average unit size is 1.2 gigabytes) | 115.00 |
Offline Radar Digital Data (Level II) (average unit size is 4 gigabytes) | 145.00 |
Offline Satellite, Radar, and Model Digital Data (average unit size is 1 terabyte) |  | 996.00
Conventional CD-ROM/DVD | 99.00 | 74.00
Specialized CD-ROM/DVD |  | 165.00
CD-ROM/DVD Copy, Offline | 40.00 | 35.00
CD-ROM/DVD Copy, Online Store | 22.00 | 17.00
Facsimile Service | 65.00 | 80.00
Additional National Oceanographic Data Center (NODC) User Fees:
World Ocean Circulation Experiment 2002 version 3.0 DVD | 8.00 | *
World Ocean Database 2001; World Ocean Atlas 2001; International Atlases | 19.00 | *
NODC Non-Standard Data, Select to FTP | 198.00 | *
NODC Non-Standard Data, 1-1 Copy to FTP | 165.00 | *
World Ocean Atlas Figures (DVD) | 39.00 | *
International Atlas 10: Climatic Atlas of the Sea of Azov 2006 (CD-ROM) | 53.00 | *
World Ocean Database 2005 (DVD) | 12.00 | *
World Ocean Atlas 2005; World Ocean Atlas Figures 2005 (DVD) | 7.00 | *
International Atlas 11: Barents Sea 1998 Climatic Atlas; International Atlas 2: Biological Atlas of the Arctic Seas 2000; World Ocean Database 98 | 55.00 | *
International Atlas 9: Climatic Atlas of the Arctic Seas 2004 (DVD) | 35.00 | *
NODC Non-Standard Data, Select to CD or DVD, Specialized | 203.00 | *
NODC Non-Standard Data, 1-1 Copy to CD or DVD, Specialized | 170.00 | *
Conventional CD-ROM/DVD | 75.00 | *
NODC Non-Serial Publications | 15.00 | 20.00
NODC Non-Standard Data; Select/Copy to CD, DVD or Electronic Transfer, Specialized, Offline |  | 42.00
NODC Non-Standard Data; 1-1 Direct Copy to CD, DVD, or Electronic Transfer, Specialized, Offline |  | 19.00
NODC Digital and Non-Digital Off-the-Shelf Products, Online |  | 4.00
NODC Digital and Non-Digital Off-the-Shelf Products, Offline |  | 6.00
Additional National Geophysical Data Center (NGDC) User Fees:
Mini Poster | 1.00 | 1.00
Icosahedron Globe | 0.50 | 3.00
Convert Data to Standard Image | 5.00 | 5.00
Single Orbit OLS | 15.00 | 16.00
Single Orbit OLS, Additional Orbits | 5.00 | 5.00
Single Orbit OLS—Subset | 15.00 | 16.00
Single Orbit OLS, Subset-Additional Orbits | 5.00 | 5.00
Geolocated Data | 40.00 | 43.00
Subset of Pre-existing Geolocated Data | 25.00 | 26.00
Global DMSP-OLS Nighttime Lights Annual Composite from One Satellite | 61,582.00 | 70,140.00
Most Recent DMSP-OLS Thermal Band/Cloud Cover Mosaics from Multiple Satellites | 215.00 | 238.00
Nightly DMSP-OLS Mosaics, Visible and Thermal Band Data from One Satellite | 201.00 | 223.00
Global DMSP-OLS Nighttime Lights Lunar Cycle Composite from One Satellite | 5,624.00 | 6,020.00
Radiance Calibrated Global DMSP-OLS Nighttime Lights Annual Composite from One Satellite | 67,922.00 | 77,177.00
Research Data Series CD-ROM/DVD | 25.00 | 25.00
Custom Analog Plotter Prints | 49.00 | 60.00
NOS Bathymetric Maps and Miscellaneous Archived Publication Inventory | 6.00 | 7.00
Global DMSP-OLS Annual Composite of Persistent Nighttime Lights on Monthly Increments from One Satellite |  | 7,665.00
* New prices for these products are not included since these products are now available under a different category of NODC products.

[FR Doc. E9-5590 Filed 3-13-09; 8:45 am]

BILLING CODE 3510-22-P